DEPARTMENT OF COMMERCE

International Trade Administration

[A-583-837]

Notice of Amended Final Antidumping Duty Determination of Sales at Less Than Fair Value and Antidumping Duty Order: Polyethylene Terephthalate Film, Sheet, and Strip (PET Film) from Taiwain

Correction

In notice document 02-16508 beginning on page 44174 in the issue of Monday, July 1, 2002, make the following correction:

On page 16508, in the second column, the docket number is corrected to read as set forth above.

[FR Doc. C2-16508 Filed 7-12-02; 8:45 am]

BILLING CODE 1505-01-D

DEPARTMENT OF DEFENSE

Department of the Army

Availability for Non-Exclusive, Exclusive, or Partially Exclusive Licensing of U.S. Patent Application Concerning Ricin Vaccine and Methods of Making and Using Thereof

Correction

In notice document 02-16885 appearing on page 44809 in the issue of Friday, July 5, 2002, make the following correction:

On page 44809, in the first column, under the “SUMMARY:” section, in the fourth line, “110/083.336” should read “110/083,336”.

[FR Doc. C2-16885 Filed 7-12-02; 8:45 am]

BILLING CODE 1505-01-D

DEPARTMENT OF DEFENSE

Department of the Army

Corps of Engineers

Intent to Prepare a Draft Environmental Impact Statement/ Subsequent Environmental Impact Report for a Permit Application for the Proposed West Basin Marine Terminal Improvement Projects in the Port of Los Angeles, Los Angeles County, CA

Correction

In notice document 02-16886 beginning on page 44810 in the issue of Friday, July 5, 2002, make the following corrections:

1. On page 44810, in the first column, under SUMMARY: in the 21st line, remove the phrase “Subsequent Envrionmental Impact Statement”.

2. On page 44810, in the second column, under ADDRESSES: in the eighth and ninth lines, “Dr. Ralph Apply” should read “Dr. Ralph Appy”.

[FR Doc. C2-16886 Filed 7-12-02; 8:45 am]

BILLING CODE 1505-01-D

DEPARTMENT OF EDUCATION

Submission for OMB Review; Comment Request

Correction

In notice document 02-15868 beginning on page 42549 in the issue of Monday, June 24, 2002, make the following correction:

On page 42549, under DATES:, in the second line “August 23, 2002” should read “July 24, 2002”.

[FR Doc. C2-15868 Filed 7-12-02; 8:45 am]

BILLING CODE 1505-01-D